NUCLEAR REGULATORY COMMISSION

[Docket No. 70-143]

Notice of Issuance of License Amendment for Nuclear Fuel Services, Inc., Erwin, TN

AGENCY: Nuclear Regulatory Commission.

ACTION: Notice of Issuance of License Amendment.

FOR FURTHER INFORMATION CONTACT: Kevin Ramsey, Project Manager, Fuel Manufacturing Branch, Fuel Facility Licensing Directorate, Office of Nuclear Material Safety and Safeguards, U.S. Nuclear Regulatory Commission, Washington, DC 20555. Telephone: (301) 492-3123; fax number: (301) 492-3359; e-mail: kmr@nrc.gov.

SUPPLEMENTARY INFORMATION:

I. Introduction

Pursuant to 10 CFR 2.106, the Nuclear Regulatory Commission (NRC) is providing notice of the issuance of License Amendment 79 to Material License No. SNM-124, to Nuclear Fuel Services, Inc. (the licensee), to authorize an increase in the possession limit for uranium enriched up to 100 percent in the uranium-235 isotope at the licensee's facility in Erwin, Tennessee. The licensee's request for the proposed license amendment was previously noticed in the Federal Register on October 18, 2007 (72 FR 59117), with a notice of an opportunity to request a hearing.

This license amendment complies with the standards and requirements of the Atomic Energy Act of 1954, as amended, and NRC's rules and regulations as set forth in 10 CFR Chapter 1. Accordingly, this license amendment was issued on November 23, 2007, and is effective immediately.

II. Further Information

The NRC has prepared a Safety Evaluation Report (SER) that documents the information that was reviewed and NRC's conclusion. In accordance with 10 CFR 2.390 of the NRC's “Rules of Practice,” details with respect to this action, including the SER and accompanying documentation included in the license amendment package, are available electronically at the NRC's Electronic Reading Room at http://www.nrc.gov/reading-rm/adams.html. From this site, you can access the NRC's Agencywide Document Access and Management System (ADAMS), which provides text and image files of NRC's public documents. The ADAMS accession number for the license amendment is ML073190567. If you do not have access to ADAMS or if there are problems in accessing the documents located in ADAMS, contact the NRC Public Document Room (PDR) Reference staff at 1-800-397-4209, 301-415-4737 or by e-mail to pdr@nrc.gov.

These documents may also be viewed electronically on the public computers located at the NRC's PDR, O 1 F21, One White Flint North, 11555 Rockville Pike, Rockville, MD 20852. The PDR reproduction contractor will copy documents for a fee.

Dated at Rockville, Maryland, this 6th day of December, 2007.
For the Nuclear Regulatory Commission.
Kevin M. Ramsey,
Acting Chief, Fuel Manufacturing Branch, Fuel Facility Licensing Directorate, Division of Fuel Cycle Safety and Safeguards, Office of Nuclear Material Safety and Safeguards.

[FR Doc. E7-24289 Filed 12-13-07; 8:45 am]

BILLING CODE 7590-01-P